COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds to the Procurement List commodities and services to be furnished by nonprofit agencies employing persons who are blind or have other severe disabilities, and deletes from the Procurement List commodities previously furnished by such agencies.

EFFECTIVE DATE: August 14, 2000.

ADDRESSES: Committee for Purchase From People Who Are Blind or Severely Disabled, Jefferson Plaza 2, Suite 10800, 1421 Jefferson Davis Highway, Arlington, Virginia 22202-3259.

FOR FURTHER INFORMATION CONTACT: Louis R. Bartalot (703) 603-7740.

SUPPLEMENTARY INFORMATION: On March 24, April 21 and May 26, 2000, the Committee for Purchase From People Who Are Blind or Severely Disabled published notices (65 FR 15897, 21395 and 34145) of proposed additions to and deletions from the Procurement List:

Additions

After consideration of the material presented to it concerning capability of qualified nonprofit agencies to provide the commodities and services and impact of the additions on the current or most recent contractors, the Committee has determined that the commodities and services listed below are suitable for procurement by the Federal Government under 41 U.S.C. 46-48c and 41 CFR 51-2.4.

I certify that the following action will not have a significant impact on a substantial number of small entities. The major factors considered for this certification were:

1. The action will not result in any additional reporting, recordkeeping or other compliance requirements for small entities other than the small organizations that will furnish the commodities and services to the Government.

2. The action will not have a severe economic impact on current contractors for the commodities and services.

3. The action will result in authorizing small entities to furnish the commodities and services to the Government.

4. There are no known regulatory alternatives which would accomplish the objectives of the Javits-Wagner-O'Day Act (41 U.S.C. 46—48c) in connection with the commodities and services proposed for addition to the Procurement List.

Accordingly, the following commodities and services are hereby added to the Procurement List:

Commodities

PVA Sponge Mop Refill

M.R. 1037

Computer Accessories

6150-00-NIB-0005 (Surge Protectors)

6150-00-NIB-0006 (Surge Protectors)

7045-00-NIB-0052 (CD Jewel Cases)

7045-00-NIB-0053 (Computer Maintenance Products)

7045-00-NIB-0056 (Computer Maintenance Products)

7045-00-NIB-0057 (Computer Maintenance Products)

7045-00-NIB-0076 (Keyboard Drawers)

7045-00-NIB-0077 (Anti-Glare Screens)

7045-00-NIB-0103 (CD Jewel Cases)

7045-00-NIB-0104 (CD Jewel Cases)

7045-00-NIB-0105 (Keyboard Drawers)

7045-00-NIB-0106 (Keyboard Drawers)

7045-00-NIB-0107 (Computer Maintenance Products)

7045-00-NIB-0108 (Computer Maintenance Products)

7045-00-NIB-0111 (Anti-Glare Screens)

7045-00-NIB-0112 (Anti-Glare Screens)

7045-00-NIB-0113 (Computer Maintenance Products)

7045-00-NIB-0121 (Desktop Media Storage)

7045-00-NIB-0123 (Desktop Media Storage)

7045-00-NIB-0124 (Desktop Media Storage)

7045-00-NIB-0125 (Desktop Media Storage)

7045-00-NIB-0126 (Desktop Media Storage)

7045-00-NIB-0129 (Desktop Media Storage)

7045-00-NIB-0131 (Desktop Media Storage)

Services

Grounds Maintenance

U.S. Army Reserve Centers at the following locations:

Lydia Street Extension, Waterbury, Connecticut

Phelps Road, East Windsor, Connecticut

AMSA 69

26 Seamans Lane, Milford, Connecticut

499 Mile Lane, Middletown, Connecticut

AMSA 72

536 Spring Street, Windsor Locks, Connecticut

200 Wintergreen Avenue, New Haven, Connecticut

180 High Street, Fairfield, Connecticut

700 South Quaker Lane, West Hartford, Connecticut

Janitorial/Custodial

Bureau of Land Management, Montana State Office Fire Office Complex for the following locations in Billings, Montana:

The Fire Operations and Air Tanker Base Building, 1299 Rimtop Drive

Billings Zone Fire Cache Building, Airport Industrial Park IP-7, 551 Northview Drive

This action does not affect current contracts awarded prior to the effective date of this addition or options that may be exercised under those contracts.

Deletions

I certify that the following action will not have a significant impact on a substantial number of small entities. The major factors considered for this certification were:

1. The action may not result in any additional reporting, recordkeeping or other compliance requirements for small entities.

2. The action will not have a severe economic impact on future contractors for the commodities.

3. The action may result in authorizing small entities to furnish the commodities to the Government.

4. There are no known regulatory alternatives which would accomplish the objectives of the Javits-Wagner-O'Day Act (41 U.S.C. 46-48c) in connection with the commodities deleted from the Procurement List.

After consideration of the relevant matter presented, the Committee has determined that the commodities listed below are no longer suitable for procurement by the Federal Government under 41 U.S.C. 46-48c and 41 CFR 51-2.4.

Accordingly, the following commodities are hereby deleted from the Procurement List:

Liner, Trousers, Cold Weather

8415-01-180-0376

8415-01-180-0377

Louis R. Bartalot,
Deputy Director (Operations).

[FR Doc. 00-17891 Filed 7-13-00; 8:45 am]

BILLING CODE 6353-01-P